DEPARTMENT OF HEALTH AND HUMAN SERVICES

Centers for Disease Control and Prevention

Agency for Toxic Substances and Disease Registry

(Program Announcement 05002)

Public Health Conference Grant Program; Notice of Availability of Funds; Amendment

A notice announcing the availability of Fiscal Year 2005 funds to award a Grant Agreement to Support Public Health Conference Support Grant Agreement published in the Federal Register on November 2, 2004, Volume 69, Number 211, pages 63541-63546.

The notice is amended as follows:

On page 63543, third column, 15th bullet, delete” Main Conference topics (no more than 2) See attachment II” and replace with “Main Conference topics and topic number (no more than 2) See Attachment”. (Without these topics and topic numbers, the LOI and/or application will not be accepted.)

On page 63543, third column, below last bullet, delete paragraph that reads, “This information must also be included in a summary page sent with the application”.

On page 63543, third column, in the last paragraph that begins with “Application”, on the first line, add: “The above information included in the LOI content must also be included on a cover page sent with the application.”

Dated: November 19, 2004.
Alan A. Kotch,
Acting Deputy Director, Procurement and Grants Office, Centers for Disease Control and Prevention.

[FR Doc. 04-26183 Filed 11-24-04; 8:45 am]

BILLING CODE 4163-18-P